DEPARTMENT OF TRANSPORTATION

Federal Aviation Administration

14 CFR Part 71

[Docket No. FAA-2022-0902; Airspace Docket No. 21-ANE-6]

RIN 2120-AA66

Proposed Amendment and Revocation of VOR Federal Airways; Northeast United States

AGENCY: Federal Aviation Administration (FAA), DOT.

ACTION: Notice of proposed rulemaking (NPRM).

SUMMARY: This action proposes to amend VHF Omnidirectional Range (VOR) Federal airways V-44, V-139 and V-268, and remove airways V-34, V-167, and V-308. This action supports the FAA's VOR Minimum Operational Network (MON) program.

DATES: Comments must be received on or before September 6, 2022.

ADDRESSES: Send comments on this proposal to the U.S. Department of Transportation, Docket Operations, 1200 New Jersey Avenue SE, West Building Ground Floor, Room W12-140, Washington, DC 20590; telephone: (800) 647-5527 or (202) 366-9826. You must identify FAA Docket No. FAA-2022-0902; Airspace Docket No. 21-ANE-6 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0902; Airspace Docket No. 21-ANE-6) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2022-0902; Airspace Docket No. 21-ANE-6.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA, 30337.

Availability and Summary of Documents for Incorporation by Reference

This document proposes to amend FAA Order JO 7400.11F, Airspace Designations and Reporting Points, dated August 10, 2021, and effective September 15, 2021. FAA Order JO 7400.11F is publicly available as listed in the ADDRESSES section of this proposed rule. FAA Order JO 7400.11F lists Class A, B, C, D, and E airspace areas, air traffic service routes, and reporting points.

The Proposal

The FAA is proposing an amendment to 14 CFR part 71 to amend VOR Federal airways V-44, V-139 and V-268; and remove airways V-34, V-167, and V-308. The proposed route changes are described below.

V-34: V-34 extends from Rochester, NY, to Nantucket, MA. The FAA proposes to remove V-34 in its entirety. United States Area Navigation (RNAV) route T-318 will be published as a partial overlay and replacement for V-34.

V-44: V-44 consists of two parts: From Columbia, MO, to Samsville, IL; and From Falmouth, KY, to Albany, NY. This notice proposes to amend the second part of the route by removing the segments from the intersection of the Martinsburg, WV 094° and the Baltimore, MD 300° radials, to Deer Park, NY. Therefore, the second part of the route would extend From Falmouth, KY; York, KY; Parkersburg, WV; Morgantown, WV; to Martinsburg, WV. A third part of V-44 would extend from the intersection of the Deer Park 041° and Bridgeport, CT, 133° radials; Bridgeport; INT Bridgeport 324° and Pawling, NY, 160° radials; Pawling; INT Pawling 342° and Albany, NY, 181° radials; to Albany. As amended, V-44 would consist of three parts: From Columbia, MO, to Samsville, IL (as currently charted); From Falmouth, KY, to Martinsburg, WV; and From the intersection INT Deer Park 041° and Bridgeport, CT, 133° radials; to Albany, NY. RNAV route T-287 will be amended as a partial overlay and replacement for V-44. The wording “The airspace within R-4001B, R-5002A, R-5002B, and R-5002E is excluded when active. The airspace within V-139 and V-308 airways is excluded.” is removed from the route description.

V-139: V-139 extends from Florence, SC, to Kennebunk, ME. The FAA proposes to remove the route segments from Norfolk, VA, to Kennebunk, ME. As amended, V-139 would extend from Florence, SC, to the intersection of the New Bern, NC 006° and Norfolk, VA, 209° radials. The words “The airspace below 2,000 feet MSL outside the United States, the airspace below 3,000 feet MSL between the Kennedy, NY, 087° and 141° radials, and the airspace within R-5202 and R-6604 are excluded.” would be removed from the amended route because V-139 would no longer pass through that airspace. RNAV route T-287 will be amended as a partial overlay and replacement for V-139.

V-167: V-167 extends from Hancock, NY, to Kennebunk, ME. The FAA proposes to remove the route in its entirety. RNAV route T-318 will be published as a partial overlay and replacement for V-167.

V-268: V-268 extends from the intersection of the Morgantown, WV 010° and the Johnstown, PA 260° radials to Augusta, ME. This proposal would remove the segments from Westminster, MD, to Augusta, ME. As amended, V-268 would extend from the intersection of the Morgantown, WV 010° and the Johnstown, PA 260° radials, to Hagerstown, MD. The words “The airspace within R-4001B and the airspace below 2,000 feet MSL outside the United States is excluded” would be removed from the description because the V-268 would no longer pass through that airspace. RNAV route T-358 will be published as a partial overlay and replacement for V-268.

V-308: V-308 extends from Nottingham, MD, to Norwich, CT. The FAA proposes to remove the route in its entirety. RNAV route T-320 will be published as a partial overlay and replacement for V-308.

The full descriptions of the above routes are listed in the amendments to part 71 set forth below.

Domestic VOR Federal airways are published in paragraph 6010(a) of FAA Order JO 7400.11F, dated August 10, 2021, and effective September 15, 2021, which is incorporated by reference in 14 CFR 71.1. The VOR Federal airways listed in this document would be subsequently published or removed from FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-34 [Removed]

* * * * *

V-44 [Amended]

From Columbia, MO; INT Columbia 131° and Foristell, MO, 262° radials; Foristell; Centralia, IL; to Samsville, IL. From Falmouth, KY; York, KY; Parkersburg, WV; Morgantown, WV; to Martinsburg, WV. From: INT Deer Park 041° and Bridgeport, CT, 133° radials; Bridgeport; INT Bridgeport 324° and Pawling, NY, 160° radials; Pawling; INT Pawling 342° and Albany, NY, 181° radials; to Albany. The airspace below 2,000 feet MSL outside the United States is excluded.

* * * * *

V-139 [Amended]

From Florence, SC, via Wilmington, NC; New Bern, NC; to INT New Bern 006° and Norfolk, VA, 209° radials.

* * * * *

V-167 [Removed]

* * * * *

V-268 [Amended]

From INT Morgantown, WV, 010° and Johnstown, PA, 260° radials; Indian Head, PA; to Hagerstown, MD.

* * * * *

V-308 [Removed]

* * * * *

Issued in Washington, DC, on July 18, 2022.
Scott M. Rosenbloom,
Manager, Airspace Rules and Regulations.

[FR Doc. 2022-15619 Filed 7-21-22; 8:45 am]

BILLING CODE 4910-13-P